DEPARTMENT OF HEALTH AND HUMAN SERVICES

Administration for Community Living

Intent To Award a Single-Source Supplement; National Consumer Voice for Quality Long-Term Care

ACTION: Announcing the intent to award a single-source supplement for the National Consumer Voice for Quality Long-Term Care for the National Ombudsman Resource Center cooperative agreement.

SUMMARY: The Administration for Community Living (ACL) announces the intent to award a single-source supplement to the current cooperative agreement held by the National Consumer Voice for Quality Long-Term Care for the National Ombudsman Resource Center. The COVID-19 pandemic has significantly impacted residents of long-term care facilities, staff, families, and Long-Term Care Ombudsman programs. During the pandemic the NORC has successfully provided the training, tools and resources for Ombudsman programs to respond rapidly to this devastating pandemic. This supplemental award will allow NORC to enhance the capacity of LTC Ombudsman programs to address abuse, neglect and exploitation as programs begin to re-enter long-term care facilities. This supplemental is consistent with the Coronavirus Response and Relief Supplemental Appropriations Act of 2021: Grants to Enhance Capacity of Long-Term Care Ombudsman Programs to Respond to Complaints of Abuse and Neglect of Residents in Long-Term Care Facilities during the COVID-19 Public Health Emergency.

Program Name: National Ombudsman Resource Center.

Recipient: The National Consumer Voice for Quality Long-Term Care.

Period of Performance: The supplement award will be issued for the time period of April 1, 2021-September 30, 2022.

Total Award Amount: $25,000, FY 2021.

Award Type: Cooperative Agreement Supplement.

Statutory Authority: This program is authorized under Section 202 of the Older Americans Act.

Basis for Award: The objective of the National Ombudsman Resource Center is to support credible and effective Long-Term Care Ombudsman programs through the provision of technical assistance and training to state Ombudsman programs and to state agencies on aging. Each year the NORC helps thousands of state and local Ombudsmen through its website, training and webinars and specialized technical assistance. It is the only resource center specialized to provide technical assistance to state Ombudsman programs. In addition, early in the pandemic NORC pivoted to provide relevant tools and training to help Ombudsman programs respond to the pandemic including the toolkit COVID-19 Recover and Re-entry and Trauma-Informed webinars and dialogue to assist Ombudsman programs.

For More Information Contact: For further information or comments regarding this program supplement, contact Louise Ryan, U.S. Department of Health and Human Services, Administration for Community Living, Administration on Aging (206) 615-2299; email Louise.Ryan@acl.hhs.gov.

Date: April 30, 2021.
Alison Barkoff,
Acting Administrator and Assistant Secretary for Aging.

[FR Doc. 2021-09661 Filed 5-6-21; 8:45 am]

BILLING CODE 4154-01-P